DEPARTMENT OF AGRICULTURE

Submission for OMB Review; Comment Request

July 21, 2020.

The Department of Agriculture has submitted the following information collection requirement(s) to OMB for review and clearance under the Paperwork Reduction Act of 1995, Public Law 104-13. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by August 24, 2020 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Risk Management Agency

Title: Area Risk Protection Insurance.

OMB Control Number: 0563-0083.

Summary of Collection: The Federal Crop Insurance Corporation (FCIC) is a wholly-owned Government corporation created February 16, 1938 (7 U.S.C. 1501). The program was amended previously, but Public Law 96-365, dated September 26, 1980, provided for nationwide expansion of a comprehensive crop insurance program. The Federal Crop Insurance Act, as amended in later years further expanded this role of the crop insurance program to be the principal tool for risk management by producers of agricultural commodities. The Act was again amended on June 20, 2020, by Public Law 106-224 which mandates changes to crop insurance regulations, provides for independent review of crop insurance products by persons experienced in actuaries and in underwriting, and gives contracting authority for the development of new products.

Need and Use of the Information: The Area Risk Protection Insurance (ARPI) includes three separate plans of insurance: (1) Area Revenue Protection which protects against price declines and automatically includes Upside Harvest Price Protection (UHPP) which protects against price increases; (2) ARP with the Harvest Price Exclusion, which excludes UHPP and protects against price declines but not against price increases; and (3) Area Yield Protection which only protects against loss of yield. Using a wide range of data elements producers are required to report specific data when they apply for ARPI such as acreage and yields. Insurance companies accept applications; issue policies; establish and provide insurance coverage; compute liability, premium, subsidies, and losses; indemnify producers; and report specific data to FCIC as required in Appendix III/M13 Handbook.

If producers and insurance companies did not submit the required data at the specified time, accurate liabilities, premium, and subsidies may not be determined, errors may not be resolved timely, producers may not receive accurate indemnities, payments may be late, crop insurance may not be actuarially sound as mandated by the Act.

Description of Respondents: Producers and insurance companies.

Number of Respondents: 18,634.

Frequency of Responses: Weekly, monthly, quarterly, annually, semi-annually.

Total Burden Hours: 80,324.

Ruth Brown,
Departmental Information Clearance Officer.

[FR Doc. 2020-16061 Filed 7-23-20; 8:45 am]

BILLING CODE 3410-08-P